DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before February 13, 2003.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with part 107 of the Federal hazardous materials transportation law (49 U.S.C. 5117(b); 49 CFR 1.53(b)).

Issued in Washington, DC, on January 23, 2003.
R. Ryan Posten,
Exemptions Program Officer, Office of Hazardous Materials, Exemptions and Approvals.

Application No. | Docket No. | Applicant | Modification of exemption
9419-M |  | FIBA Technologies, Inc., Westboro, MA. (See Footnote 1.) | 9419
9421-M |  | Taylor-Wharton (Gas & Fluid Control Group), Harrisburg, PA. (See Footnote 2.) | 9421
9706-M |  | Taylor-Wharton (Gas & Fluid Control Group), Harrisburg, PA. (See Footnote 3.) | 9706
10047-M |  | Taylor-Wharton (Gas & Fluid Control Group), Harrisburg, PA. (See Footnote 4.) | 10047
10049-M |  | Martin Transport, Inc., Kilgore, TX. (See Footnote 5.) | 10049
10143-M |  | Eurocom, Inc., Irving, TX. (See Footnote 6.) | 10143
11194-M |  | Carleton Technologies, Inc., Glen Burnie, MD. (See Footnote 7.) | 11194
11580-M |  | Columbiana Boiler Co., Columbiana, OH. (See Footnote 8.) | 11580
12022-M | RSPA-98-3308 | Taylor-Wharton (Gas & Fluid Control Group), Harrisburg, PA. (See Footnote 9.) | 12022
12698-M | RSPA-01-9652 | Integrated Environmental Services, Inc., Atlanta, GA. (See Footnote 10.) | 12698
12838-M | RSPA-01-10859 | City Machine & Welding, Inc., Amarillo, TX. (See Footnote 11.) | 12838
13104-M | RSPA-02-13279 | Consumers Energy (Big Rock Point Restoration Proj), Charlevoix, MI. (See Footnote 12.) | 13104
13144-M | RSPA-02-13718 | Baker Petrolite, Sugar Land, TX. (See Footnote 13.) | 13144
13163-M | RSPA-02-13801 | Pacific Bio-Material Management, Inc., Fresno, CA. (See Footnote 14.) | 13163
(1) To modify the exemption to authorize the use of DOT Specification 3AX cylinders that are retested by means other than the hydrostatic retest for the transportation of certain gases.
(2) To modify the exemption to authorize an alternative immersion UE test system for non-DOT specification steel cylinders transporting certain Division 2.1, 2.2 and 2.3 materials.
(3) To modify the exemption to authorize an alternative immersion UE test system for non-DOT specification steel cylinders transporting certain Division 2.1, 2.2 and 2.3 materials and eliminating the Fracture Toughness Test requirement
(4) To modify the exemption to authorize an alternative immersion UE test system for non-DOT specification steel cylinders transporting certain Division 2.1, 2.2 and 2.3 materials and eliminating the Fracture Toughness Test requirement.
(5) To modify the exemption to authorize the transportation of additional Division 2.1 materials and the use of additional polyurethane insulated non-DOT specification cargo tanks.
(6) To modify the exemption to authorize the transportation of additional Division 2.2 materials in a non-refillable non-DOT specification inside metal container.
(7) To modify the exemption to authorize the transportation of additional Division 2.2 materials in a non-DOT specification fully wrapped carbon-fiber reinforced aluminum lined cylinder.
(8) To modify the exemption to authorize changes to the hydrostatic and physical test requirements for qualification of the non-DOT specification stainless steel cylinders.
(9) To modify the exemption to authorize the use of DOT Specification 3A cylinders for the transportation of certain Division 2.1, 2.2 and 2.3 materials and the use of an alternative immersion UE test system.
(10) To modify the exemption to authorize design changes to the non-DOT specification full open head, steel/stainless steel salvage cylinders for the transportation of various Classes/Divisions of hazardous materials.
(11) To modify the exemption to authorize the use of DOT Specification 3A cylinders, with revised diameter/wall thickness requirements, for the transportation of certain Division 2.1, 2.2 and 2.3 materials.
(12) To modify the exemption to authorize the use of an alternative closure material for the steam drum nozzle as part of non-DOT specification packaging for the transportation of Class 7 material.
(13) To reissue the exemption originally issued on an emergency basis and to authorize continued use of the DOT Specification 4BW240 welded steel cylinders equipped with locking ball valves and a pressure relief device for the transportation of a Division 6.1 material.
(14) To reissue the exemption originally issued on an emergency basis for the transportation of certain Division 6.2 materials in specially designed packaging.

[FR Doc. 03-2006 Filed 1-28-03; 8:45 am]

BILLING CODE 4910-60-M